DEPARTMENT OF HEALTH AND HUMAN SERVICES

Office of the Secretary

Secretary's Council on Public Health Preparedness; Notice of Meeting

Pursuant to section 10(a) of the Federal Advisory Committee Act, as amended (5 U.S.C. Appendix 2), notice is given of a meeting of the Secretary's Council on Public Health Preparedness.

The purpose of this public meeting is to convene the Council to discuss issues related to public health emergency preparedness and response and bioterrorism. The Council may consider the following major issues: BioShield; Research and Development Initiatives; Transport of Possibly Infected Exotic Animals; Modeling Initiatives; Academic Health Centers; State and Local Programs; and Public Health Preparedness Efforts.

The meeting will be open to the public as indicated below; however, attendance is limited by the availability of space on a first come, first serve basis. Because the meeting is taking place in a Federal building, attendees are require to register in advance by e-mail at Secretary.council@hhs.gov no later than close of business on April 28, 2004. Please include the name, address, telephone number, and business or professional affiliation of those registering.

All attendees must show a photo ID when they enter the building. The meeting will be closed to the public in accordance with the provisions set forth in section 552b(c)(9)(B), title 5 U.S.C., as amended to allow for a classified briefing on potential terrorist threats.

Name of Committee: Secretary's Council on Public Health Preparedness.

Date: May 3-4, 2004.

Open: May 3, 2004, 9 a.m. to 4:30 p.m.

Agenda: BioShield; Research and Development Initiatives; Transport of Possibly Infected Exotic Animals; Modeling Initiatives.

Place: U.S. Department of Health & Human Services, 200 Independence Avenue, SW., Eisenberg Memorial Room (Room 800), Washington, DC 20201.

Closed: May 3, 2004, 4: 30 p.m. to adjournment.

Agenda: Classified briefing on potential terrorist threats.

Place: U.S. Department of Health & Human Services, 200 Independence Avenue, SW., Eisenberg Memorial Room (Room 800), Washington, DC 20201.

Open: May 4, 2004, 9 a.m. to adjournment.

Agenda: Academic Health Centers; State and Local Programs; and Public Health Preparedness Efforts.

Place: U.S. Department of Health & Human Services, 200 Independence Avenue, SW., Eisenberg Memorial Room (Room 800), Washington, DC 20201.

Contact Person: Ms. Carol Baker, Office of the Assistant Secretary for Public Health Emergency Preparedness, 200 Independence Avenue, SW., Washington, DC 20201. (202) 260-0945; Secretary.council@hhs.gov.

SUPPLEMENTARY INFORMATION: The Secretary's Council on Public Health Preparedness was established on October 22, 2001 by the Secretary of Health and Human Services under the authorization of section 319 of the Public Health Service Act (42 U.S.C. 247d); section 222 of the Public Health Service Act (42 U.S.C. 217a). The purpose of the Secretary's Council on Public Health Preparedness is to advise the Secretary on appropriate actions to prepare for and respond to public health emergencies, including acts of bioterrorism. The function of the Council is to advise the Secretary regarding steps that the U.S. Department of Health and Human Services can take to (1) improve the public health and health care infrastructure to better enable Federal, State, and local governments to respond to a public health emergency or an act of bioterrorism; (2) ensure that there are comprehensive contingency plans in place at the Federal, State, and local levels to respond to a public health emergency or an act of bioterrorism; and (3) improve public health preparedness at the Federal, State, and local levels.

Public Participation

Opportunities for oral statements by the public will be provided on Tuesday, May 4, 2004, at approximately 11:30 a.m. Oral comments are limited to 5 minutes per person or organization, including 3 minutes to make a statement and 2 minutes to respond to questions from Council members. Due to time constraints, only one representative from each organization will be allotted time for oral testimony. The number of speakers and the number of registrants may also limit the time allotment. If you wish to have photocopies of your materials distributed to the Council, please bring an adequate number of copies.

Members of the public who wish to present oral comments at the meeting must register by e-mailing Ms. Carol Baker at Secretary.council@hhs.gov no later than close of business, April 26, 2004. All requests to present oral comments must include the name, address, telephone number, business or professional affiliation of the interested party, and the areas of interest or issue to be addressed.

Any person attending the meeting who has not registered to speak in advance of the meeting will be allowed to make a brief oral statement during the time set aside for public comment if time permits and at the Chairperson's discretion. Individuals or interested parties that are unable to attend the meeting may send written comments by e-mail to: Ms. Carol Baker, Secretary.council@hhs.gov, (202) 260-0945 no later than close of business, April 26, 2004.

Persons needing special assistance, such as sign language interpretation or other special accommodations, should contact: Ms. Carol Baker, Secretary.council@hhs.gov, (202) 260-0945 no later than close of business April 23, 2004.

Dated: April 8, 2004.
LaVerne Y. Stringfield,
Director, Office of Federal Advisory Committee Policy.

[FR Doc. 04-8491 Filed 4-9-04; 2:50 pm]

BILLING CODE 4140-01-M